DEPARTMENT OF COMMERCE

Census Bureau

Proposed Information Collection; Comment Request; The American Community Survey Content Review Results

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)). The Department of Commerce is particularly interested in comments on seven American Community Survey (ACS) questions, highlighted in the SUPPLEMENTARY INFORMATION section of this Notice, which are slated for removal from the questionnaire based on the results of the 2014 ACS Content Review. Concurrently, Federal agencies that are the principal sponsors of these seven questions are invited to respond either to the U.S. Census Bureau directly or through this notice and to provide revised or additional justification for retaining these questions on the ACS.

DATES: To ensure consideration, written comments must be submitted on or before December 30, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Cheryl Chambers, Rm. 3K067, U.S. Census Bureau, American Community Survey Office, Washington, DC 20233 or via email to ACSO.communications@census.gov.

SUPPLEMENTARY INFORMATION:

I. Abstract

Since the founding of the nation, the U.S. Census has mediated between the demands of a growing country for information about its economy and people, and the people's privacy and respondent burden. Beginning with the 1810 Census, Congress added questions to support a range of public concerns and uses, and over the course of a century questions were added about agriculture, industry, and commerce, as well as occupation, ancestry, marital status, disabilities, and other topics. In 1940, the U.S. Census Bureau introduced the long form and since then only the more detailed questions were asked of a sample of the public.

The ACS, launched in 2005, is the current embodiment of the long form of the census, and is asked each year of a sample of the U.S. population in order to provide current data needed more often than once every ten years. In December of 2010, five years after its launch, the ACS program accomplished its primary objective with the release of its first set of estimates for every area of the United States. The Census Bureau concluded it was an appropriate time to conduct a comprehensive assessment of the ACS program. This program assessment focused on strengthening programmatic, technical, and methodological aspects of the survey to assure that the Census Bureau is an efficient and effective shared service provider. The assessment also provided an opportunity to examine and confirm the value of each question on the ACS, which resulted in the 2014 ACS Content Review.

The 2014 ACS Content Review is the most comprehensive effort ever undertaken by the Census Bureau to review content on the survey, seeking to understand which federal programs use the information collected by each question, the justification for each question, and assess how the Census Bureau might reduce respondent burden. This review included examination of all 72 questions contained on the 2014 ACS questionnaire, including 24 housing-related questions and 48 person-related questions. Prior to this review, there were approximately 175 known federal uses. As a result of the federal agencies' commitment to the review, over 125 additional uses were identified, bringing the total number to over 300.

Each participating agency provided the Census Bureau with the uses and justifications for questions, and each corresponding Office of General Counsel validated the legal basis for each question. The Department of Commerce Office of General Counsel further confirmed these legal statements and categorized each use as either mandatory,¹ regulatory,² or programmatic.³ Of the 72 questions, only three of the questions did not have either a mandatory or required use, with 39 questions having at least one mandatory use, 64 questions having at least one regulatory use, and 70 questions having at least one programmatic use. The outcome of the Content Review is to identify questions for removal or modification, while continuing to provide information to meet federal agencies' needs.

¹ A federal law explicitly calls for use of decennial census or American Community Survey data on that question.

² A federal law (or implementing regulation) explicitly requires the use of data and the decennial or the American Community Survey is the historical source; or the data are needed for case law requirements imposed by the U.S. federal court system.

³ The data are needed for program planning, implementation, or evaluation and there is no explicit mandate or requirement.

II. Method of Collection

In August 2012, the OMB and the Census Bureau chartered the Interagency Council of Statistical Policy (ICSP) Subcommittee for the ACS to “provide advice to the Director of the Census Bureau and the Chief Statistician at OMB on how the ACS can best fulfill its role in the portfolio of Federal household surveys and provide the most useful information with the least amount of burden.” The Subcommittee charter also states that the Subcommittee would be expected to “conduct regular, periodic reviews of the ACS content . . . designed to ensure that there is clear and specific authority and justification for each question to be on the ACS, the ACS is the appropriate vehicle for collecting the information, respondent burden is being minimized, and the quality of the data from ACS is appropriate for its intended use.”

The ICSP Subcommittee established the two analysis factors—benefit as defined by the level of usefulness and cost as defined by the level of respondent burden or difficulty in obtaining the data. The Subcommittee also established the 19 decision criteria -13 benefit criteria and six cost criteria. Given these criteria, the collection of nine data sets was required. The five data sets that were collected to demonstrate ACS benefits (usefulness) included:

Federal Agency ACS Data Uses— Agencies were asked to document: (1) Justification for question use; (2) mandatory, regulatory, and programmatic uses; (3) lowest level of geography required; (4) frequency of use; (5) funding formulas and the amount of funding distributed based on the questions; and, (6) characteristics of the population supported by the question. The Office of General Counsel for each agency submitting uses to the Census Bureau confirmed the legal citations associated with each of the stated uses. The Department of Commerce Office of General Counsel subsequently validated each use to adjudicate whether the use is Mandatory, Regulatory, or Programmatic.

Federal Agency Alternative Data Sources—Agencies were also asked to identify alternative data sources to the ACS.

Computation of Questions' Estimates Coefficients of Variation—Census Bureau subject matter experts examined the coefficient of variation (CV) associated with an estimate for each question at the county level, providing insight into the quality of the measure by geography.

Computation of Questions' Estimates Interquartile Ranges—Census Bureau subject matter experts computed interquartile ranges associated with an estimate for each question at the county level, providing insight into the amount of variability in the estimates by geography.

ACS Used as another Survey's Sampling Frame—Other surveys that used the ACS as a sampling frame were identified, including the ACS questions that were used to identify the survey sample of respondents.

Four data sets reflecting measures of cost (burden) were collected. These included:

Survey of Interviewers—ACS interviewers were surveyed to identify three of the cost indicators: Which questions respondents find cognitively burdensome, or sensitive, and which ones are the most difficult.

Time to Respond Response— Response times to questionnaires via automated modes (Internet, call center, and in-person interviews) were measured to determine how long it took respondents to answer each question.

Allocation Rates—Allocation rates by questions were computed to determine which questions were left blank requiring statistical methods to fill in the response. That is, which questions required more imputation due to missing information.

Complaints—Complaints about the ACS received by email, letter, or telephone were examined and associated with questions so that counts could be obtained.

Based on the analysis of the 9 data sets reflecting the 19 decision criteria, each question received a total number of points between 0 and 100 based on its benefits, and 0 and 100 points based on its costs. These points were then used as the basis for creating four categories: High Benefit and Low Cost; High Benefit and High Cost; Low Benefit and Low Cost; or Low Benefit and High Cost. For this analysis, any question that was designated as either Low Benefit and Low Cost or Low Benefit and High Cost and was NOT designated as Mandatory (i.e., statutory) by the Department of Commerce Office of General Counsel or NOT Required (i.e., regulatory) with a sub-state use, was identified as a potential candidate for removal. Initially 21 questions (17 percent) fell into the Low Benefit/Low Cost category and three questions (3 percent) fell into the Low Benefit/High Cost category, for a combined total of 24 questions in either of the Low Benefit categories. However, after removing those that were Mandatory or Required with a sub-state use, only seven (6 percent) of the 24 questions remained. These seven questions were all in the Low Benefit and Low Cost category.

These seven questions include, with the 2014 ACS questionnaire wording in italics: Housing Question No. 6—Business/Medical Office on Property—Is there a business (such as a store or barber shop) or a medical office on this property?

Person Question No. 12—Undergraduate Field of Degree—This question focuses on this person's Bachelor's Degree. Please print below the specific major(s) of any Bachelor's Degrees this person has received.

Person Question No. 21a—Get Married—In the past 12 months did this person get—Married?

Person Question No. 21b—Get Widowed—In the past 12 months did this person get—Widowed?

Person Question No. 21c—Get Divorced—In the past 12 months did this person get—Divorced?

Person Question No. 22—Times Married—How many times has this person been married?

Person Question No. 23—Year Last Married—In what year did this person last get married?

The public is invited to comment on all questions on the American Community Survey; however, the Census Bureau is particularly interested in comments on these seven ACS questions listed above, which are slated for removal from the questionnaire based on the results of the 2014 Content Review. Concurrently, Federal agencies that are the principal sponsors of these seven questions are invited to respond either directly to the Census Bureau or through this notice and provide revised or additional justification for these questions, especially concerning strategies to reduce respondent burden. We would anticipate comments concerning such strategies as examining alternative data sources, changes to wording or presentation, using a more limited sample, reducing question frequency, federal agency collaboration on the review of statutes or regulations, among others.

To view all 2014 ACS questions by category with their associated justifications, please visit: http://www.census.gov/acs/www/about_the_survey/acs_content_review/.

III. Data

OMB Control Number: 0607-0810.

Form Number(s): ACS-1(2014).

Type of Review: Regular submission.

Affected Public: Federal and legislative agencies, individuals, households, and businesses. We plan to contact the following number of respondents each year: 3,540,000 households; 200,000 persons in group quarters; 20,000 contacts in group quarters; 43,000 households for reinterview; and 1,500 group quarters contacts for reinterview.

Estimated Time per Response: 40 minutes for the average household questionnaire.

Estimated Total Annual Burden Hours: The estimate is an annual average of 2,337,900 burden hours.

Estimated Total Annual Cost to Public: Except for their time, there is no cost to respondents.

Respondent's Obligation: Mandatory.

Legal Authority: Title 13 U.S.C. Sections 141 and 193 or other authority authorizing or requiring the collection.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 28, 2014.
Glenna Mickelson,
Management Analyst, Office of the Chief Information Officer.

[FR Doc. 2014-25912 Filed 10-30-14; 8:45 am]

BILLING CODE 3510-07-P